FEDERAL MARITIME COMMISSION

[FMC-2024-0018; FMC-2024-0019; FMC-2024-0020; FMC-2024-0021]

Renewal of Agency Information Collection Activities: Submission for OMB Review; Comment Requested; Marine Terminal Operators; Service Contracts, Non-Vessel Operating Common Carriers

AGENCY: Federal Maritime Commission.

ACTION: Notice and request for comment.

SUMMARY: The Federal Maritime Commission (Commission) is giving public notice that the agency has submitted the continuing information collections listed below in this notice to the Office of Management and Budget (OMB) for approval of revisions of existing information collections related to marine terminal operator schedules, service contracts, non-vessel-operating common carrier (NVOCC) service arrangements and negotiated rate agreements. The public is invited to comment on these information collections pursuant to the Paperwork Reduction Act of 1995.

DATES: Written comments must be submitted on or before July 31, 2025.

ADDRESSES: Comments should be submitted to: (1) the Commission through the Federal eRulemaking Portal at www.regulations.gov (dockets FMC-2024-0018; FMC-2024-0019; FMC-2024-0020; FMC-2024-0021) and (2) also sent to the Office of Management and Budget's Office of Information and Regulatory Affairs through the portal at https://www.reginfo.gov/public/do/PRAMain. Find this particular information collection at Reginfo.gov by selecting “Currently under Review—Open for Public Comments” or by using the search function. If your material cannot be submitted to the addresses above, contact the person in the FOR FURTHER INFORMATION CONTACT section of this document for alternate instructions.

FOR FURTHER INFORMATION CONTACT: For additional information, please contact Amy Strauss, (202) 523-5793, TradeAnalysis@fmc.gov.

SUPPLEMENTARY INFORMATION:

The Commission invites the general public and other Federal agencies to comment on any aspect of the continuing information collections listed in this notice, as required by the Paperwork Reduction Act of 1995 (44 U.S.C. 3501 et seq.). We are particularly interested in receiving comments on: (1) the necessity and utility of the proposed information collections for the proper performance of the agency's functions; (2) the accuracy of the estimated burden; (3) ways to enhance the quality, utility, and clarity of the information to be collected; and (4) the use of automated collection techniques or other forms of information technology to minimize the information collection burden.

Comments submitted in response to this notice will be included or summarized in our request for OMB approval of the relevant information collection. All comments are part of the public record and subject to disclosure. Please do not include any confidential or inappropriate material in your comments.

Previous Request for Comments

On November 20, 2024, the Commission published a notice and request for comment in the Federal Register (89 FR 91749) regarding the agency's request for approval from OMB for information collections as required by the Paperwork Reduction Act of 1995. During the 60-day period, the Commission received no comments.

Information Collection Open for Comment

I.

Title: 46 CFR Part 525—Marine Terminal Operator Schedules and Related Form FMC-1.

OMB Approval Number: 3072-0061 (Expires July 31, 2025).

Abstract: Section 40501(f) of Title 46 of the United States Code provides marine terminal operators (MTOs) with the option of making their schedules of rates, regulations, and practices available to the public subject to 46 U.S.C. 41102(c). MTOs must maintain a complete set of all of their terminal schedules and shall promptly make them available to the Commission upon request. Each MTO is required to file Form FMC-1 with the Bureau of Trade Analysis providing its organization name, organization number, home office address, name and telephone number of the firm's representative, the location of its terminal schedule(s), and the publisher, if any, used to maintain its terminal schedule. The Commission publishes a list on its website of the location of any terminal schedule made available to the public.

Type of Review: Revision of a currently approved collection.

Needs and Uses: The Commission uses the information filed by these parties to monitor the activities of these entities and to meet its responsibilities with regard to identifying and preventing unreasonable preference or prejudice and unjust discrimination pursuant to 46 U.S.C. 41102. Additionally, the Commission uses the information filed by these parties to monitor the activities of these entities and to meet its responsibilities with regard to identifying and preventing unreasonable discrimination, preference or advantage (or disadvantage) or unreasonable refusal to deal pursuant to 46 U.S.C. 41106.

Frequency: Submission of new FMC-1 forms or updates to existing forms are not assigned a specific time frame by the Commission; they are submitted as circumstances warrant. However, it is unlikely that any single entity would need to provide information more than once in a calendar year.

Type of Respondents: Marine Terminal Operators.

Number of Annual Respondents: There are currently 202 MTOs registered with the Commission. One hundred and forty-six (146) of those entities make their schedules available to the public. Based on previous years, the Commission estimates that approximately 20 MTOs will file a new FMC-1 or update an existing FMC-1. MTOs are not required to inform the Commission when they update a marine terminal schedule outside of publishing its location; however, the Commission estimates that 10 MTOs would update their schedules in a given year.

Estimated Time per Response: The time per response for completing Form FMC-1 averages 0.5 person hours, and approximately 5 person-hours for updating an existing MTO schedule.

Total Annual Burden: The Commission estimates the total person-hour burden at 60 person-hours per year.

II.

Title: 46 CFR Part 530—Service Contracts.

OMB Approval Number: 3072-0065 (Expires July 31, 2025).

Abstract: Section 40502 of Title 46 of the United States Code requires ocean common carriers and agreements between or among such carriers to file their service contracts confidentially with the Commission. The Commission's rules governing the filing of service contracts are set forth at 46 CFR part 530.

Type of Review: Revision of a currently approved collection.

Needs and Uses: The Commission monitors service contract filings to ensure compliance with 46 U.S.C. subtitle IV.

Frequency: Frequency of filings is determined by the ocean common carrier and its customers. When parties enter into a service contract or amend the contract, the service contract or amendment must be filed with the Commission.

Type of Respondents: Ocean common carriers or their duly appointed agents are required to file service contracts and amendments with the Commission.

Number of Annual Respondents: The Commission estimates an annual respondent universe of 84 ocean common carriers. During 2024, ocean common carriers filed 370,918 original service contracts, and 835,092 service contract amendments.

Estimated Time per Response: The Commission estimates that the time per response ranges from 0.0166 to 0.1 person-hours for reporting and recordkeeping requirements contained in the regulations, averaging 119 hours per response for audit requirements, and 0.1 person-hours for completing Form FMC-83.

Total Annual Burden: The Commission estimates the total annual person-hour burden at 34,285.48 person-hours.

III.

Title: 46 CFR Part 531—NVOCC Service Arrangements.

OMB Approval Number: 3072-0070 (Expires July 31, 2025).

Abstract: 46 CFR part 531 allows NVOCCs and shippers' associations with NVOCC members to act as shipper parties in NVOCC Service Arrangements (NSAs), and to be exempt from certain tariff publication requirements of 46 U.S.C. subtitle IV provided the NVOCC posts a prominent notice in its rules tariff invoking the NSA exemption and provides electronic access to its rules tariff to the public free of charge. This information collection corresponds to the requirements to include the NSA exemption in the tariff, recordkeeping requirements, and the requirement to make the tariff publicly available free of charge.

Type of Review: Revision of a currently approved collection.

Needs and Uses: The Commission uses NSAs and associated data for monitoring and investigatory purposes and, in its proceedings, to adjudicate related issues raised by private parties.

Frequency: NVOCCs that opt to enter into an NSA in lieu of publishing tariff rate(s) must post a notice in its rules tariff invoking the NSA exemption.

Type of Respondents: Parties that enter into NSAs are NVOCCs and shippers' associations with NVOCC members.

Number of Annual Respondents: Of the total respondent universe of approximately 8,700 active NVOCCs, the Commission estimates that 325 NVOCCs per year will need to add a prominent notice to their electronically published rules tariff indicating the intention to invoke the NSA exemption. The Commission estimates that approximately 1,500 NVOCCs in total have invoked this exemption and would therefore be subject to the recordkeeping requirements.

Estimated Time per Response: The time per response is estimated to be 15 minutes to add a tariff rule invoking the NSA exemption, and 15 minutes for recordkeeping requirements.

Total Annual Burden: Total annual burden is estimated to be 456 person-hours.

IV.

Title: 46 CFR Part 532—NVOCC Negotiated Rate Arrangements.

OMB Approval Number: 3072-0071 (Expires July 31, 2025).

Abstract: Section 40103 of Title 46 of the United States Code authorizes the Commission to exempt by order or regulation “any class of agreements between persons subject to [46 U.S.C. subtitle IV, Part A] or any specified activity of those persons from any requirement of [46 U.S.C. subtitle IV, Part A] if the Commission finds that the exemption will not result in substantial reduction in competition or be detrimental to commerce.” The Commission may attach conditions to any exemption and may, by order, revoke an exemption. In 46 CFR part 532, the Commission exempted NVOCCs from the tariff rate publication requirements of Part 520 and allowed an NVOCC to enter into an NVOCC Negotiated Rate Arrangement (NRA) in lieu of publishing its tariff rate(s), provided the NVOCC posts a prominent notice in its rules tariff invoking the NRA exemption and provides electronic access to its rules tariff to the public free of charge. This information collection corresponds to the rules tariff prominent notice and the requirement to make its rules tariff publicly available free of charge.

Type of Review: Revision of a currently approved collection.

Needs and Uses: The Commission uses the information filed by an NVOCC in its rules tariff to determine whether the NVOCC has invoked the exemption for a particular shipment or shipments. The Commission has used and will continue to use the information required to be maintained by NVOCCs for monitoring and investigatory purposes, and, in its proceedings, to adjudicate related issues raised by private parties.

Type of Respondents: Parties that enter into NRAs are NVOCCs and shippers' associations with NVOCC members.

Number of Annual Respondents: Of the total respondent universe of approximately 8,700 active NVOCCs, an average of 500 annually over the last three years have added a prominent notice to its electronically published rules tariff indicating the intention to invoke the NRA exemption. The Commission estimates that a total of 3,800 NVOCCs now utilize the NRA exemption and would then need approximately one hour per year for recordkeeping requirements.

Estimated Time per Response: The time per response is estimated to be 15 minutes to add a tariff rule invoking the NRA exemption, and one hour for recordkeeping requirements.

Total Annual Burden: Total annual burden is estimated to be 3,925 person-hours.

David Eng,
Secretary.

[FR Doc. 2025-12287 Filed 6-30-25; 8:45 am]

BILLING CODE 6730-02-P